DEPARTMENT OF THE TREASURY

Submission for OMB Review; Comment Request

August 30, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 6, 2005 to be assured of consideration.

Alcohol and Tobacco Tax and Trade Bureau (TTB)

OMB Number: 1513-0092.

Type of Review: Extension.

Title: Marks on Wine Containers.

Description: TTB requires that wine or wine premises be identified by statements of information on labels or contained in marks. TTB uses this information to validate the receipts of excise tax revenue by the Federal government. Consumers are provided with adequate identifying information.

Respondents: Business or other for-profit.

Estimated Total Burden Hours: 1 hour.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Michael A. Robinson,
Treasury PRA Clearance Officer.

[FR Doc. 05-17566 Filed 9-2-05; 8:45 am]

BILLING CODE 4810-31-P